DEPARTMENT OF COMMERCE

[I.D. 012302C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: High Seas Fishing Vessel Reporting Requirements.

Form Number(s): None.

OMB Approval Number: 0648-0349.

Type of Request: Regular submission.

Burden Hours: 850.

Number of Respondents: 550.

Average Hours Per Response: 5 minutes per day for a logbook when fishing; and 1 minute per negative report.

Needs and Uses: Vessels licensed under the High Sea Fishing Compliance Act are required to report their catch and effort when fishing on the high seas. Monthly negative reports are required if not fishing. These logbooks are not required if the vessel is already reporting catches and effort under other NOAA regulations. The information is needed for fishery management and to provide data to international organizations.

Affected Public: Business or other for-profit organizations.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 17, 2002.
Gwellnar Banks,
Management Analyst, Office of the Chief Information Officer.

[FR Doc. 02-2002 Filed 1-25-02; 8:45 am]

BILLING CODE 3510-22-S